DEPARTMENT OF STATE

[Public Notice 6042]

Solicitation of Input and Participation in a Dialogue To Review the Standardized Program Structure for Foreign Assistance; Correction

The Office of the Director of U.S. Foreign Assistance (F) is commencing public consultations on the “Standardized Program Structure for Foreign Assistance” (Program Structure). The Program Structure was developed in 2006 through a deliberative interagency process as part of the Secretary's Foreign Assistance Reform. It serves as a lexicon for categorizing and tracking foreign assistance activities from a number of different foreign assistance appropriation accounts, collectively totaling approximately $25 billion in U.S. Foreign Assistance.

F will consider changes to the Program Structure through a three-phase process:

• Phase I will engage public stakeholders (including Non-Governmental Organizations—NGOs) in dialogue;

• Phase II will engage Federal interagency partners; and

• Phase III will occur when all external and internal stakeholder input is collected and analyzed, and then forwarded to the Director of U.S. Foreign Assistance for a decision regarding proposed adjustments to the Program Structure.

This process is expected to take 4-6 months from the start date of the first stage, and will result in a refined Program Structure that will serve as the foundation for future planning and performance products. This notice pertains to Phase I.

The purpose of the consultative process is to fulfill a commitment to engage with external stakeholders to obtain input to improve the Program Structure (for example, to clarify definitions, identify gaps, or remove duplication). Consultation with external stakeholders and analysis of their inputs are expected to last for a period of between 8-12 weeks. F will use the administrative, technical, and logistical services of the National Academy of Public Administration (NAPA) to facilitate consultations.

Effective December 19, 2007, the Department of State will solicit the public for recommended changes at the “program area” level (e.g., Transnational Crime; Rule of Law and Human Rights; Health; Macroecomonic Foundation for Growth; Disaster Readiness) of the structure, and below (i.e., program element; program sub-element). The public is strongly encouraged to review the PROGRAM STRUCTURE by going to the following Internet site: http://www.state.gov/documents/organization/93447.pdf. Written recommendations for changes will be accepted ONLY between December 27-January 18, 2008, and must be made, by means of e-mail, to the following address: ForeignAssistanceDefinitions@state.gov. Recommendations must state clearly the recommended change, the rationale for the change, and the expected impact on other aspects of the Program Structure.

Following the solicitation period, five (5) focus group meetings (addressing each of the program objectives) will be managed by the Department of State, and hosted and facilitated by NAPA at their location (900 7th Street, NW., Washington, DC 20001). Focus group sessions are tentatively scheduled to take place in January 2008. Participation will be limited to a predetermined number of attendees (due to space limitations), but the Department of State and NAPA will make every effort to ensure representation of a broad cross-section of stakeholders. The focus groups will review written comments, discuss any additional suggestions for changes and make recommendations on which changes should be further considered by the Department of State. Individuals and organizations interested in participating in focus group sessions should contact Lena Trudeau, Program Area Director, Strategic Initiatives, National Academy of Public Administration, (202) 315-5476 (Direct), ltrudeau@napawash.org.

Following the focus groups, a plenary session will review recommendations made by each of the groups, before final recommendations are forwarded to the Department of State for consideration by the Federal interagency. The plenary session will occur in the late January timeframe (specific date to be determined) at NAPA offices, and like the focus groups, be limited to a predetermined number of attendees due to space limitations. Attendance will be determined by the Department of State with the objective of ensuring balanced and broad representation from stakeholders.

The Department of State is committed to engaging its critical stakeholders in an unprecedented opportunity to review its Program Structure, so as to improve its foreign assistance reform effort currently underway. General information related to U.S. Foreign Assistance may be found at the following Internet site: http://www.state.gov/f/.

Dated: December 19, 2007.
Jill Copenhaver,
Management Officer, Office of U.S. Foreign Assistance, Department of State.

[FR Doc. E7-25230 Filed 12-26-07; 8:45 am]

BILLING CODE 4710-02-P